DEPARTMENT OF THE TREASURY

United States Mint

Re-pricing of the 2012 and 2013 United States America the Beautiful Quarters Silver Proof Set®, 2013 United States Mint Silver Proof Set®, and 2013 United States Mint Congratulations Set

AGENCY: United States Mint, Department of the Treasury.

ACTION: Notice.

SUMMARY: The United States Mint is announcing the re-pricing of the 2012 and 2013 United States Mint America the Beautiful Quarters Silver Proof Set, the 2013 United States Mint Silver Proof Set, and the 2013 United States Mint Congratulations Set.

2012 and 2013 United States Mint America the Beautiful Quarters Silver Proof Sets will be offered for sale at a price of $36.95.

2013 United States Mint Silver Proof Set will be offered for sale at a price of $60.95.

2013 United States Mint Congratulations Set will be offered for sale at a price of $59.95.

FOR FURTHER INFORMATION CONTACT: J. Marc Landry, Acting Associate Director for Sales and Marketing; United States Mint; 801 9th Street NW., Washington, DC 20220; or call 202-354-7500.

Authority: 31 U.S.C. 5111, 5112 & 9701.

Dated: May 16, 2013.
Richard A. Peterson,
Acting Director, United States Mint.

[FR Doc. 2013-12097 Filed 5-21-13; 8:45 am]

BILLING CODE P